DEPARTMENT OF HOUSING AND URBAN DEVELOPMENT

[Docket No. FR-7070-N-13; OMB Control No.: 2502-0462]

30-Day Notice of Proposed Information Collection: Section 811 Supportive Housing for Persons With Disabilities Capital Advance

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: April 19, 2023.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function.

FOR FURTHER INFORMATION CONTACT: Colette Pollard, Reports Management Officer, REE, Department of Housing and Urban Development, 7th Street SW, Room 8210, Washington, DC 20410; email Colette Pollard at Colette.Pollard@hud.gov or telephone 202-402-3400. This is not a toll-free number. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Pollard.

SUPPLEMENTARY INFORMATION: This notice informs the public that HUD is seeking approval from OMB for the information collection described in Section A.

The Federal Register notice that solicited public comment on the information collection for a period of 60 days was published on December 21, 2022, at 87 FR 78123.

A. Overview of Information Collection

Title of Information Collection: Capital Advance Section 811 Grant Application for Supportive Housing for Persons with Disabilities.

OMB Approval Number: 2502-0462.

Type of Request: Reinstatement of a discontinued collection with change.

Form Number: HUD-92016-CA, HUD-92041, HUD-92042, HUD-92043, HUD-2880, HUD-2991, HUD-2530, HUD 424-B Standard grant forms: SF-424, SF-LLL.

Description of the need for the information and proposed use: This collection was discontinued in 2015 due to no funding being appropriated since 2011. The program received new funding in 2018 and 2019, and there was an attempt to reinstate the collection, but the process was not completed. With renewed funding for Fiscal Year 2022 and anticipated funding in the future, the Office of Asset Management and Portfolio Oversight (OAMPO) is submitting this request again. The information requested is necessary to the Department to assist HUD in determining applicant eligibility and ability to develop and operate, through the project owner, housing for persons with disabilities within statutory and program criteria. The program also provides project rental subsidies in the form of a Project Rental Assistance Contract (“PRAC”) to maintain ongoing affordability over the next forty years. A thorough evaluation of an applicant's submission is necessary to protect the government's financial interest.

Information collection | Number of respondents | Frequency of response | Response per annum | Burden hour per response | Annual burden hours | Hourly cost per response | Annual cost
Legal Status of Sponsor | 99 | 1 | 99 | 2 | 2 | $26.00 | $5,148
Sponsor's purpose community ties, and experience | 99 | 1 | 99 | 10 | 10 | 26.00 | 25,740
Project Information | 99 | 1 | 99 | 15 | 15 | 26.00 | 38,610
Supportive Services Plan | 99 | 1 | 99 | 20 | 20 | 26.00 | 51,480
List of applications submitted in response to this NOFO | 99 | 1 | 99 | 1 | 1 | 26.00 | 2,574
A statement that identifies occupants and relocation costs | 99 | 1 | 99 | 4 | 4 | 26.00 | 10,296
SF-424 | 99 | 1 | 99 | 0 | 0 | 0 |
HUD-424B | 99 | 1 | 99 | 0 | 0 | 0 |
SF-LLL | 99 | 1 | 99 | 0 | 0 | 0 |
HUD-2880 | 99 | 1 | 99 | 0 | 0 | 0 |
HUD-92016-CA | 99 | 1 | 99 | 1 | 1 | 26.00 | 2,574
HUD-92041 | 99 | 1 | 99 | .4 | .4 | 26.00 | 1,029.60
HUD-92042 | 99 | 1 | 99 | .4 | .4 | 26.00 | 1,029.60
HUD-92043 | 99 | 1 | 99 | .4 | .4 | 26.00 | 1,029.60
HUD-2991 | 99 | 1 | 99 | 3 | 3 | 26.00 | 7,772
HUD-2530 | 99 | 1 | 99 | 3 | 3 | 26.00 | 7,772
Total | 99 | 1 | 99 | 60.2 | 60.2 | 5,959.80 | 154,954.80

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology. HUD encourages interested parties to submit comment in response to these questions.

C. Authority

Section 3507 of the Paperwork Reduction Act of 1995, 44 U.S.C. Chapter 35.

Colette Pollard,
Department Reports Management Officer, Office of Policy Development and Research, Chief Data Officer.

[FR Doc. 2023-05583 Filed 3-17-23; 8:45 am]

BILLING CODE 4210-67-P